DEPARTMENT OF EDUCATION

[Docket No.: ED-2024-SCC-0132]

Agency Information Collection Activities; Submission to the Office of Management and Budget for Review and Approval; Comment Request; Pathways to Partnerships Program Evaluation

AGENCY: Office of Special Education and Rehabilitative Services (OSERS), Department of Education (ED).

ACTION: Notice.

SUMMARY: In accordance with the Paperwork Reduction Act (PRA) of 1995, the Department is proposing a new information collection request (ICR).

DATES: Interested persons are invited to submit comments on or before June 16, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Diandrea Bailey, 202-987-0126.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Pathways to Partnerships Program Evaluation.

OMB Control Number: 1820-NEW.

Type of Review: A new ICR.

Respondents/Affected Public: Individuals and Households.

Total Estimated Number of Annual Responses: 17,137.

Total Estimated Number of Annual Burden Hours: 4,676.

Abstract: The U.S. Department of Education's Rehabilitation Services Administration (RSA) requests clearance for new data collection activities to support the evaluation of the 84.421E Federal fiscal year (FFY) 2023 Disability Innovation Fund (DIF), Pathways to Partnerships Innovative Model Demonstration Project. The purpose of the DIF, as provided by the Consolidated Appropriations Act, 2022 (Pub. L. 117-103), is to support innovative activities aimed at increasing competitive integrated employment as defined in section 7 of the Rehabilitation Act of 1973 (Rehabilitation Act) (29 U.S.C. 705(5)) for children, youth, and other individuals with disabilities. The program aims to create systematic and seamless approaches to offering transition services to children with disabilities, ages 10-13 and youth with disabilities ages 14 to 24 through collaborations among State vocational rehabilitation (VR) agencies, State education agencies (SEAs), local education agencies (LEAs), Federally funded Centers for Independent Living (CILs), and other organizations offering services to this population. RSA is investing a total of $198,975,322 in grant funding to the 20 States through the FFY 2023 DIF.

This request covers primary data collection activities for the National Evaluation of the Pathways to Partnerships Program. These activities include the following:

○ Surveys and interviews with program participants or their parent or guardian

○ Surveys with State VR, SEA, and CIL directors

○ Surveys and interviews with project staff

○ Collecting project administrative data (staff rosters, cost worksheets, and web analytics) from project directors

In September 2023, RSA awarded five-year cooperative agreements for the 84.421E FFY 2023 DIF model demonstration projects. The awards provide 20 State VR agencies or SEAs with funding to implement Pathways to Partnerships model demonstration projects. The Pathways to Partnerships models vary across the 20 projects, but the projects' purpose is to create and implement systematic approaches to delivering transition services to children and youth with disabilities. The approaches must entail establishing close partnerships across key agencies to deliver these services in ways likely to improve the education and employment outcomes of children and youth with disabilities.

Ross Santy,
Chief Data Officer, Office of Planning, Evaluation and Policy Development.

[FR Doc. 2025-08529 Filed 5-14-25; 8:45 am]

BILLING CODE 4000-01-P